NATIONAL AERONAUTICS AND SPACE ADMINISTRATION

[Notice (02-046)]

Notice of Prospective Patent and Copyright License

AGENCY: National Aeronautics and Space Administration.

ACTION: Notice of Prospective Patent License.

SUMMARY: NASA hereby gives notice that Circuit Avenue Netrepreneurs of Philadelphia, PA, has applied for an exclusive license to practice the invention described and claimed in KSC-12301 entitled “Advanced Self-Healing, Self-Calibrating Data Acquisition System.” This technology is assigned to the United States of America as represented by the Administrator of the National Aeronautics and Space Administration. Written objections to the prospective grant of a license should be sent to Randall M. Heald, Assistant Chief Counsel/Patent Counsel, at John F. Kennedy Space Center.

DATES: Responses to this Notice must be received on or before April 16, 2002.

FOR FURTHER INFORMATION CONTACT: Randall M. Heald, Assistant Chief Counsel/Patent Counsel, John F. Kennedy Space Center, Mail Code: CC-A, Kennedy Space Center, FL 32899, telephone (321) 867-7214.

Dated: March 25, 2002.
Robert M. Stephens,
Deputy General Counsel.

[FR Doc. 02-7790 Filed 3-29-02; 8:45 am]

BILLING CODE 7510-01-P